DEPARTMENT OF HOUSING AND URBAN DEVELOPMENT

[Docket No. FR-5865-D-01]

Delegation of Authority for the Office of Public and Indian Housing

AGENCY: Office of the Secretary, HUD.

ACTION: Notice of delegation of authority.

SUMMARY: Section 7(d) of the Department of Housing and Urban Development (HUD) Act, as amended, authorizes the Secretary to delegate functions, powers and duties as the Secretary deems necessary. In this delegation of authority, the Secretary delegates authority to the Assistant Secretary, the Principal Deputy Assistant Secretary and the General Deputy Assistant Secretary for the Office of Public and Indian Housing (PIH) and authorizes the Assistant Secretary, the Principal Deputy Assistant Secretary and the General Deputy Assistant Secretary to redelegate authority for the administration of certain PIH programs. This delegation revokes and supersedes all prior delegations of authority, including the delegation published on August 4, 2011.

DATES: Effective upon date of signature.

FOR FURTHER INFORMATION CONTACT: Linda Bronsdon, AICP, Program Analyst, Office of Policy, Program and Legislative Initiatives, Office of Public and Indian Housing, Department of Housing and Urban Development, 490 L'Enfant Plaza, Suite 2206, Washington, DC 20024, email address Linda.K.Bronsdon@hud.gov, telephone number 202-402-3494. (This is not a toll free number.) This number may be accessed through TTY by calling the toll-free Federal Relay Service at telephone number 1-800-877-8339.

SUPPLEMENTARY INFORMATION: Previous delegations of authority from the Secretary of HUD to the Assistant Secretary, and General Deputy Assistant Secretary for PIH, including the delegation published on August 4, 2011 (76 FR 47224), are hereby revoked and superseded by this delegation of authority.

Section A. Authority Delegated

The Secretary hereby delegates to the Assistant Secretary, the Principal Deputy Assistant Secretary and the General Deputy Assistant Secretary for PIH the authority and responsibility to administer the following programs:

1. Programs under the jurisdiction of the Secretary pursuant to the authority transferred from the Public Housing Administration under section 5(a) of the Department of Housing and Urban Development Act (42 U.S.C. 3534) as amended;

2. Each program of the Department authorized pursuant to the United States Housing Act of 1937 (1937 Act)(42 U.S.C. 1437 et seq) as amended, including but not limited to the Public Housing program, Section 8 Programs (except the following Section 8 project-based programs: New Construction, Substantial Rehabilitation, Loan Management Set-Aside, and Property Disposition) and predecessor programs that are no longer funded but have ongoing commitments;

3. PIH programs for which assistance is provided for or on behalf of public housing agencies (PHAs), public housing residents or other low-income households; and

4. PIH programs for which assistance is provided for or on behalf of Native Americans, Indian Tribes, Alaska Native Villages, Native Hawaiians, tribal entities, tribally designated housing entities, or tribal housing resident organizations. This includes, but is not limited to: Programs authorized pursuant to the Native American Housing Assistance and Self-Determination Act of 1966 (NAHASDA) (25 U.S.C. 4101 et seq.), as amended; the Community Development Block Grant Program for Indian Tribes and Alaska Native Villages authorized by section 106 of the Housing and Community Development Act of 1974 (42 U.S.C. 5306); the Indian Home Loan Guarantee Program authorized by section 184 of the Housing and Community Development Act of 1992 (12 U.S.C. 1715z-13a); the Native Hawaiian Loan Guarantee Program authorized by section 184A of the Housing and Community Development Act of 1992 (12 U.S.C. 1715z-13b); and Rural Innovation Fund grants and Rural Housing and Economic Development grants awarded to Indian Tribes and tribal entities by the Assistant Secretary for Community Planning and Development, as may be authorized by HUD appropriations acts.

Only the Assistant Secretary for Public and Indian Housing is delegated the authority to issue a final regulation or a Notice of Funding Availability (NOFA). The authority delegated herein to the Assistant Secretary, the Principal Deputy Assistant Secretary and the General Deputy Assistant Secretary includes the authority to waive regulations and statutes, but for the Principal Deputy Assistant Secretary and the General Deputy Assistant Secretary the authority to waive statutes is limited in Section B below.

Section B. Authority Excepted

Authority delegated under section A does not include the power to sue or be sued. Also, the authority delegated under section A to the Principal Deputy Assistant Secretary and General Deputy Assistant Secretary does not include the authority to waive the following statutes:

1. Waivers of obligation and expenditure deadlines for capital funds under 42 U.S.C. 1437g(j)(2);

2. Waivers of Moving to Work demonstration authority under Section 204 of the Omnibus Consolidated Recessions and Appropriations Act of 1996 (Pub. L. 104-134);

3. Waivers of requirements for grants to Department of Hawaiian Homelands where compliance is impossible due to circumstances beyond the control of grantees under 25 U.S.C. 4222.

Section C. Authority To Redelegate

In accordance with a written redelegation of authority, the Assistant Secretary, the Principal Deputy Assistant Secretary and the General Deputy Assistant Secretary for PIH may further redelegate specific authority. Redelegated authority to PIH Deputy Assistant Secretaries or other ranking PIH program officials does not supersede the authority of the Assistant Secretary as designee of the Secretary. The three existing redelegations of authority for PIH published on August 4, 2011 at 76 FR 47228, 76 FR 47229 and 76 FR 47231 remain in effect.

Section D. Exceptions to Authority To Further Redelegate

The authority to redelegate does not include any power or authority under law specifically required of the Secretary of HUD, the Assistant Secretary of PIH, the Principal Deputy Assistant Secretary of PIH or the General Deputy Assistant Secretary of PIH. Authority excepted includes:

1. The authority to issue regulations;

2. The authority to issue notices to clarify regulations;

3. The authority to issue notices of funding availability (NOFAs), handbooks, notices and other HUD policy directives;

4. The authority to impose remedies for substantial noncompliance with the requirements of NAHASDA (25 U.S.C. 4101 et seq) and/or its implementing regulations;

5. The authority to declare a failure to comply with the regulations governing Community Development Block Grants for Indian Tribes and Alaska Native Villages; and

6. The authority delegated herein to the Principal Deputy Assistant Secretary to waive regulations and statutes with the exception of those statutes listed in Section B.

Section E. Authority Superseded

The previous delegations of authority from the Secretary for HUD to the Assistant Secretary for PIH are hereby revoked and superseded by this delegation of authority, including the previous delegation of authority for PIH published on August 4, 2011 (76 FR 47224).

Section F. Authority To Represent HUD

This consolidated delegation of authority is conclusive evidence of the authority of the Assistant Secretary for PIH, the Principal Deputy Assistant Secretary and the General Deputy Assistant Secretary or those with redelegated authority, to represent the Secretary and to execute, in the name of the Secretary, any instrument or document relinquishing or transferring any right, title or interest of the Department in real or personal property. The Secretary may revoke the authority authorized herein, in whole or in part, at any time.

Section G. Consultation and Coordination With the General Counsel

The General Counsel shall consult and advise the Assistant Secretary for PIH, the Principal Deputy Assistant Secretary and the General Deputy Assistant Secretary as required and when requested and to enter into such protocols as administratively agreed to by the General Counsel and the Assistant Secretary for PIH, the Principal Deputy Assistant Secretary or the General Deputy Assistant Secretary for PIH. This consolidated delegation of authority is to be exercised consistently with the delegation of the Secretary to the General Counsel.

Authority: Section 7(d) of the Department of Housing and Urban Development Act, as amended, (42 U.S.C. 3535(d)).

Dated: March 25, 2015.
Julián Castro,
Secretary of Housing and Urban Development.

[FR Doc. 2015-07918 Filed 4-6-15; 8:45 am]

BILLING CODE CODE 4210-67-P